DEPARTMENT OF HOMELAND SECURITY

Federal Emergency Management Agency

[Docket ID FEMA-2023-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Date of modification | Community No.
Colorado:
Adams (FEMA Docket No.: B-2304). | City of Northglenn (22-08-0178P). | The Honorable Meredith Leighty, Mayor, City of Northglenn, 11701 Community Center Drive, Northglenn, CO 80233. | City Hall, 11701 Community Center Drive, Northglenn, CO 80233. | Mar. 31, 2023 | 080257
Adams (FEMA Docket No.: B-2304). | City of Thornton (22-08-0178P). | The Honorable Jan Kulmann, Mayor, City of Thornton, 9500 Civic Center Drive, Thornton, CO 80229. | City Hall, 9500 Civic Center Drive, Thornton, CO 80229. | Mar. 31, 2023 | 080007
Adams (FEMA Docket No.: B-2304). | Unincorporated areas of Adams County (22-08-0178P). | The Honorable Lynn Baca, Chair, Adams County Board of Commissioners, 4430 South Adams County Parkway, 5th Floor, Suite C5000A, Brighton, CO 80601. | Adams County Community and Economic Development Department, 4430 South Adams County Parkway, 1st Floor, Suite W2000, Brighton, CO 80601. | Mar. 31, 2023 | 080001
Connecticut: New Haven (FEMA Docket No.: B-2304). | Town of Branford (22-01-0692P). | The Honorable James B. Cosgrove, First Selectman, Town of Branford Board of Selectmen, 1019 Main Street, Branford, CT 06405. | Engineering Department, 1019 Main Street, Branford, CT 06405. | Mar. 14, 2023 | 090073
Florida:
Broward (FEMA Docket No.: B-2304). | City of Hallandale Beach (22-04-2352P). | The Honorable Joy Cooper, Mayor, City of Hallandale Beach, 400 South Federal Highway, Hallandale Beach, FL 33009. | Public Works Department, 630 Northwest 2nd Street, Hallandale Beach, FL 33009. | Mar. 30, 2023 | 125110
Lake (FEMA Docket No.: B-2314). | City of Leesburg (22-04-1994P). | Al Minner, Manager, City of Leesburg, 501 West Meadow Street, Leesburg, FL 34748. | City Hall, 204 North 5th Street, Leesburg, FL 34748. | Mar. 22, 2023 | 120136
Monroe (FEMA Docket No.: B-2304). | City of Marathon (22-04-5165P). | The Honorable John Bartus, Mayor, City of Marathon, 9805 Overseas Highway, Marathon, FL 33050. | Planning Department, 9805 Overseas Highway, Marathon, FL 33050. | Mar. 20, 2023 | 120681
Monroe (FEMA Docket No.: B-2299). | Unincorporated areas of Monroe County (22-04-5025P). | The Honorable David Rice, Mayor, Monroe County Board of Commissioners, 9400 Overseas Highway, Suite 210, Marathon, FL 33050. | Monroe County Building Department, 2798 Overseas Highway, Suite 300, Marathon, FL 33050. | Mar. 16, 2023 | 125129
Sarasota (FEMA Docket No.: B-2304). | City of Sarasota (22-04-5287P). | The Honorable Erik Arroyo, Mayor, City of Sarasota, 1565 1st Street, Room 101, Sarasota, FL 34236. | Development Services Department, 1565 1st Street, Room 101, Sarasota, FL 34236. | Mar. 29, 2023 | 125150
Maryland: Anne Arundel (FEMA Docket No.: B-2304). | Unincorporated areas of Anne Arundel County (22-03-0389P). | Steuart Pittman, Anne Arundel County Executive, 44 Calvert Street, Annapolis, MD 21401. | Anne Arundel County Department of Inspections and Permits, 2664 Riva Road, Annapolis, MD 21401. | Mar. 20, 2023 | 240008
Massachusetts: Essex (FEMA Docket No.: B-2304). | City of Gloucester (22-01-0631P). | The Honorable Greg Verga, Mayor, City of Gloucester, 9 Dale Avenue, Gloucester, MA 01930. | City Hall, 3 Pond Road, Gloucester, MA 01930. | Mar. 23, 2023 | 250082
Montana:
Yellowstone (FEMA Docket No.: B-2314). | City of Billings (22-08-0233P). | The Honorable Bill Cole, Mayor, City of Billings, P.O. Box 1178, Billings, MT 59103. | Building Division, 2825 3rd Avenue North, 4th Floor, Billings, MT 59101. | Mar. 23, 2023 | 300085
Yellowstone (FEMA Docket No.: B-2314). | Unincorporated areas of Yellowstone County (22-08-0233P). | The Honorable Donald Jones, Chair, Yellowstone County Board of Commissioners, P.O. Box 35000, Billings, MT 59107. | Yellowstone County Public Works Department, 316 North 26th Street, Billings, MT 59101. | Mar. 23, 2023 | 300142
Pennsylvania: Delaware (FEMA Docket No.: B-2314). | Borough of Folcroft (22-03-0267P). | The Honorable Franny DiCicco, Mayor, Borough of Folcroft, 1555 Elmwood Avenue, Folcroft, PA 19032. | Borough Hall, 1555 Elmwood Avenue, Folcroft, PA 19032. | Mar. 17, 2023 | 420415
Rhode Island: Washington (FEMA Docket No.: B-2304). | Town of Narragansett (22-01-0734P). | James R. Tierney, Manager, Town of Narragansett, 25 5th Avenue, Narragansett, RI 02882. | Narragansett Planning Board, 25 5th Avenue, Narragansett, RI 02882. | Mar. 16, 2023 | 445402
Oklahoma: Creek (FEMA Docket No.: B-2314). | City of Sapulpa (22-06-1576P). | The Honorable Craig Henderson, Mayor, City of Sapulpa, 425 East Dewey Avenue, Sapulpa, OK 74066. | City Hall, 424 East Hobson Avenue, Sapulpa, OK 74066. | Apr. 3, 2023 | 450053
South Dakota:
Codington (FEMA Docket No.: B-2314). | City of Watertown (22-08-0217P). | Amanda Mack, Manager, City of Watertown, P.O. Box 910, Watertown, SD 57201. | Public Works Department, Engineering Division, 23 2nd Street Northeast, Watertown, SD 57201. | Mar. 20, 2023 | 460016
Codington (FEMA Docket No.: B-2314). | Unincorporated areas of Codington County (22-08-0217P). | The Honorable Brenda Hanten, Chair, Codington County Commissioners, 14 1st Avenue Southeast, Watertown, SD 57201. | Codington County Zoning Department, 1910 West Kemp Avenue, Watertown, SD 57201. | Mar. 20, 2023 | 460260
Lawrence (FEMA Docket No.: B-2304). | City of Spearfish (22-08-0442P). | The Honorable John Senden, Mayor, City of Spearfish, 625 North 5th Street, Spearfish, SD 57783. | Building and Development Department, 625 North 5th Street, Spearfish, SD 57783. | Mar. 22, 2023 | 460046
Texas:
Bexar (FEMA Docket No.: B-2314). | City of San Antonio (22-06-1174P). | The Honorable Ron Nirenberg, Mayor, City of San Antonio, P.O. Box 839966, San Antonio, TX 78283. | Transportation and Capital Improvements Department, Storm Water Division, 1901 South Alamo Street, 2nd Floor, San Antonio, TX 78204. | Mar. 20, 2023 | 480045
Bexar (FEMA Docket No.: B-2314). | City of San Antonio (22-06-1982P). | The Honorable Ron Nirenberg, Mayor, City of San Antonio, P.O. Box 839966, San Antonio, TX 78283. | Transportation and Capital Improvements Department, Storm Water Division, 1901 South Alamo Street, 2nd Floor, San Antonio, TX 78204. | Mar. 20, 2023 | 480045
Bexar (FEMA Docket No.: B-2314). | Unincorporated areas of Bexar County (22-06-1470P). | The Honorable Nelson Wolff, Bexar County Judge, 101 West Nueva Street, 10th Floor, San Antonio, TX 78205. | Bexar County Public Works Department, 1948 Probandt Street, San Antonio, TX 78205. | Apr. 3, 2023 | 480035
Collin (FEMA Docket No.: B-2314). | City of Anna (22-06-1094P). | The Honorable Nate Pike, Mayor, City of Anna, P.O. Box 776, Anna, TX 75409. | Public Works Building Department, 3223 North Powell Parkway, Anna, TX 75409. | Mar. 20, 2023 | 480132
Collin (FEMA Docket No.: B-2314). | Unincorporated areas of Collin County (22-06-2159P). | The Honorable Chris Hill, Collin County Judge, 2300 Bloomdale Road, Suite 4192, McKinney, TX 75071. | Collin County Engineering Department, 4690 Community Avenue, Suite 200, McKinney, TX 75071. | Apr. 3, 2023 | 480130
Dallas (FEMA Docket No.: B-2314). | City of Dallas (22-06-2080P). | The Honorable Eric Johnson, Mayor, City of Dallas, 1500 Marilla Street, Suite 5EN, Dallas, TX 75201. | Oak Cliff Municipal Center, 320 East Jefferson Boulevard, Room 312, Dallas, TX 75203. | Apr. 3, 2023 | 480171
Ellis (FEMA Docket No.: B-2304). | City of Waxahachie (22-06-1739P). | The Honorable David Hill, Mayor, City of Waxahachie, P.O. Box 757, Waxahachie, TX 75168. | Public Works and Engineering Department, 401 South Roger Street, Waxahachie, TX 75165. | Mar. 23, 2023 | 480211
Midland (FEMA Docket No.: B-2304). | Unincorporated areas of Midland County (22-06-1520P). | The Honorable Terry Johnson, Midland County Judge, 500 North Loraine Street, Suite 1100, Midland, TX 79701. | Midland County Courthouse, 500 North Loraine Street, Midland, TX 79701. | Mar. 20, 2023 | 481239
Tarrant (FEMA Docket No.: B-2304). | City of Fort Worth (22-06-0836P). | The Honorable Mattie Parker, Mayor, City of Fort Worth, 200 Texas Street, Fort Worth, TX 76102. | Transportation and Public Works Department, Engineering Vault, 200 Texas Street, Fort Worth, TX 76102. | Mar. 20, 2023 | 480596
Tarrant (FEMA Docket No.: B-2304). | Unincorporated areas of Tarrant County (22-06-0836P). | The Honorable B. Glen Whitley, Tarrant County Judge, 100 East Weatherford Street, Suite 501, Fort Worth, TX 76196. | Tarrant County, Administration Building, 100 East Weatherford Street, Suite 401, Fort Worth, TX 76196. | Mar. 20, 2023 | 480582
Utah: Tooele (FEMA Docket No.: B-2314). | City of Tooele (22-08-0553P). | The Honorable Debra E. Winn, Mayor, City of Tooele, 90 North Main Street, Tooele, UT 84074. | Engineering Department, 90 North Main Street, Tooele, UT 84074. | Mar. 30, 2023 | 490145
Virginia:
Fairfax (FEMA Docket No.: B-2314). | Town of Vienna (22-03-0155P). | Mercury Payton, Town of Vienna Manager, 127 Center Street South, Vienna, VA 22180. | Public Works Department, 127 Center Street South, Vienna, VA 22180. | Mar. 29, 2023 | 510053
Loudoun (FEMA Docket No.: B-2304). | Unincorporated areas of Loudoun County (22-03-0603P). | Tim Hemstreet, Loudoun County Administrator, 1 Harrison Street Southeast, 5th Floor, Leesburg, VA 20175. | Loudoun County Government Center, 1 Harrison Street, Southeast, 3rd Floor, MSC #60, Leesburg, VA 20175. | Apr. 3, 2023 | 510090

[FR Doc. 2023-08774 Filed 4-25-23; 8:45 am]

BILLING CODE 9110-12-P